DEPARTMENT OF HEALTH AND HUMAN SERVICES

Substance Abuse and Mental Health Services Administration

Center for Substance Abuse Prevention; Notice of Meeting

Pursuant to Public Law 92-463, notice is hereby given of the meeting of the SAMHSA Center for Substance Abuse Prevention (CSAP) National Advisory Council on February 14, 2006.

The meeting will be open and will include a Director's Report; discussions related to National Outcome Measures; an update on SAMHSA's Drug Free Communities programs; and a panel presentation on the roles of Project Officers, Grants Management staff and Contracts Management staff.

A roster of Council members may be obtained either by accessing the SAMHSA Council Web site, http://www.samhsa.gov/council/csap/csapnac.aspx or by communicating with the contact listed below. Substantive program information, a summary of the meeting, and the transcript for the open session will also be available on the SAMHSA CSAP Council Web site as soon as possible after the meeting. Attendance by the public will be limited to space available.

Committee Name: Substance Abuse and Mental Health Services Administration, Center for Substance Abuse Prevention National Advisory Council.

Date/Time: Tuesday, February 14, 2006, 12 p.m. to 5 p.m.

Place: Washington DC Convention Center, 801 Mount Vernon Place, NW., Room 204 B, Washington, DC 20001.

Type: Open.

Contact: Tia Haynes, Committee Management Specialist, 1 Choke Cherry Road, Room 4-1066, Rockville, Maryland 20857. Telephone: (240) 276-2436. Fax: (240) 276-2430 E-mail: Tia.haynes@samhsa.hhs.gov.

Dated: February 1, 2006.
Toian Vaughn,
Committee Management Officer, Substance Abuse and Mental Health Services Administration.

[FR Doc. E6-1623 Filed 2-6-06; 8:45 am]

BILLING CODE 4162-20-P